ENVIRONMENTAL PROTECTION AGENCY

[OPPTS-00288; FRL-6491-2]

Childhood Blood-Lead Screening and Lead Awareness (Educational) Outreach for Indian Tribes; Notice of Funds Availability

AGENCY: Environmental Protection Agency (EPA).

ACTION: Notice.

SUMMARY: EPA is soliciting pre-application grant proposals from Indian Tribes to conduct blood-lead screening for tribal children, and for conducting lead awareness (educational) outreach activities for Indian Tribes. EPA is awarding grants which will provide approximately $2 million for Indian Tribes to perform those activities and to encourage Indian Tribes to consider continuing such activities in the future. Decisions on awarding the grant funds will be made based on the evaluation of the pre-application proposals. This notice describes eligibility, activities, application procedures and requirements, and evaluation criteria.

DATES: All pre-applications must be received on or before May 23, 2000.

ADDRESSES: Submit pre-application proposals to: Darlene Watford, Technical Branch, National Program Chemicals Division (7404), Office of Pollution Prevention and Toxics (OPPT), Environmental Protection Agency, Ariel Rios Bldg., 1200 Pennsylvania Ave., NW., Washington, DC 20460.

FOR FURTHER INFORMATION CONTACT: For general information contact: Joseph S. Carra, Deputy Director, Office of Pollution Prevention and Toxics (7401), Environmental Protection Agency, Ariel Rios Bldg., 1200 Pennsylvania Ave., NW., Washington, DC 20460; telephone numbers: (202) 554-1404 and TDD: (202) 554-055; e-mail address: TSCA-Hotline@epa.gov.

For technical information contact: Darlene Watford, Technical Branch, National Program Chemicals Division (7404), Office of Pollution Prevention and Toxics, Environmental Protection Agency, Ariel Rios Bldg., 1200 Pennsylvania Ave., NW., Washington, DC 20460; telephone number: (202) 260-3989; fax number: (202) 260-0001; and e-mail address: watford.darlene@epa.gov.

SUPPLEMENTARY INFORMATION:

I. Does this Notice Apply to Me?

This action is directed to Federally recognized Indian Tribes or Tribal consortiums only. If you have any questions regarding the applicability of this action to a particular entity, consult the person listed under “FOR FURTHER INFORMATION CONTACT.”

II. Scope and Purpose

The purpose of these grants is to encourage Indian Tribes to recognize the risks to children associated with lead exposure and address them by conducting blood-lead screening for tribal children and providing lead awareness activities to Indian Tribes. A recent study by the National Health and Nutrition Examination Survey (NHANES)indicates that children of urban, minority (e.g., African American, Asian Pacific American, Hispanic American,American Indian), or low-income families, or who live in older housing, continue to be most vulnerable to lead poisoning, and have elevated blood-lead levels.

III. Eligibility

Eligible recipients are Federally recognized Indian Tribes or Tribal consortiums only. For the purposes of this notice, an association or partnership with one or more Federally recognized Indian Tribes is considered a consortium. Federally recognized Indian Tribes are listed in the Federal Register of December 30, 1998 (63 FR 71941). In addition, the following conditions apply:

A. General Requirements

1. There are no requirements for matching funding under this grant program.

2. No applicant may receive two grants for the same project at one time. If an Indian Tribe submits two applications, one must be for a blood-screening project and one for an educational outreach project.

3. Applicants must identify in the application any funds from other sources (private or public) that may be used to carry-out their proposed grant projects (in response to this notice). If the applicant has conducted, or is currently working on a related project(s), please provide a brief description of those projects and funding sources in the application.

4. Applicants must use Clinical Laboratory Improvement Amendments (CLIA)-certified laboratories for off-site analysis. These laboratories must participate in the Wisconsin State Laboratory of Hygiene Blood-Lead Proficiency Testing Program with a score of 80% (4 out of 5) acceptable results in a monthly testing event. Applicants may use on-site, hand-held, blood-lead analyzers; however, the applicant must successfully participate in at least one round of the blood-lead proficiency testing program administered by the Wisconsin State Laboratory of Hygiene for these devices.

5. Applicants submitting blood-lead screening proposals must follow the format provided in the “QAPP Template for Blood-Lead Screening for Indian Tribes,” document prepared by EPA exclusively for Indian Tribes to respond to this notice.

6. EPA is extremely interested in knowing what steps the applicant plans to follow regarding treatment for children whose blood-lead levels are determined to be elevated (<10 μg/dL (micrograms per deciliter)) while screening under this grant. It is important that the children who are found to have elevated blood-lead levels are not left untreated.Specific steps and related information must be included in section B of the Work Plan for blood-lead screening proposals.

B. Administrative Reporting Requirements

The applicant must provide EPA with the original plus three copies of the:

1. Quarterly progress report, due at the end of each quarter. The report must include:

i. Blood-lead sample collection data, such as Indian Tribe names and locations, ages of children (in months), gender, date of sample collection, method of sample collection (capillary or venous), name and address of the laboratory performing the analysis, laboratory analysis method and date, and blood-lead level.

ii. Lead awareness (educational) outreach activities such as the number of families educated about the dangers of lead exposure, the type, location, and number of educational materials distributed per Indian tribal area. The final progress report should include complete information on those items(including any barriers encountered) to serve as an evaluation of the effectiveness of the grant.

2. Financial status report, due at the end of the grant period.

IV. Authority

The Toxic Substances Control Act (TSCA), section 10, Research, Development, Collection,Dissemination, and Utilization of Data, authorizes EPA to award grants for the purpose of conducting research,development, and monitoring as necessary, “Provided that, notwithstanding any other provisions of law,beginning in FY 2000 [October 1, 1999] and thereafter, grants awarded under Section 10 of TSCA, as amended,shall be available for research, development, monitoring, public education, training, demonstrations, and studies.”

V. Activities to be Funded

EPA will provide financial assistance in the form of grants to Indian Tribes or Tribal consortiums to:

A. Conduct Lead Poisoning Screening of Tribal Children

EPA will provide financial assistance to Indian Tribes or Tribal consortiums to conduct lead-based paint screening activities for tribal children under 6 years of age. The focus should be on tribal children between the ages of 12-36 months because blood-lead levels tend to be highest in this age group, and more children in this age group have blood-lead levels "10 μg/dL. Applicants must collect blood-lead samples from tribal children and have the samples analyzed. The applicant must develop or use an existing data management system (manual or automated) to collect and maintain data of all tribal children screened, including laboratory results and data on follow-up cases for tribal children with elevated blood-lead levels. The screening data must be provided to EPA and must include: Indian Tribe name and location, an identifier that protects the privacy of the child, age of housing in which the child resides, age of the child (in months), gender, date of sample collection, method of sample collection (capillary or venous), laboratory analysis method and date, blood-lead level (in μg/dL) and possible exposure routes (paint, hobby, pottery,occupational, etc.) for each tribal child screened.

Applicants must use CLIA-certified laboratories to perform laboratory analysis of blood samples. Operators of on-site devices must successfully participate in the blood-lead proficiency testing program. Laboratories and devices must successfully participate in the blood-lead proficiency testing program that is administered by the Wisconsin State Laboratory of Hygiene under a grant from the Health Care Financing Administration of the Department of Health and Human Services. The regulations implementing CLIA were published in 1992 at 42 CFR part 405. 42 CFR part 405 defines minimum standards for all aspects of laboratory operation, including personnel,qualifications, physical plant, specimen handling, reporting and recordkeeping, etc.) Certification under CLIA is required for all U.S. laboratories performing blood testing.

B. Lead Awareness Outreach Activities

The applicant will launch organized outreach efforts to educate Indian families about the dangers of exposure to lead-based paint hazards among children, distribute educational information, and encourage Indian families to have their children screened for lead. Activities may include training medical professionals, distributing pamphlets,establishing an in-home education program to visit the homes of young tribal children. Applicants may develop their own outreach materials or use already existing products. EPA is aware that many State, tribal, and local departments of health and environmental protection, as well as advocacy groups and community development groups have developed useful lead poisoning prevention materials to conduct outreach and awareness (educational) activities. In addition, EPA and other Federal agencies have developed, and currently provide, a wide range of outreach materials available from the National Lead Information Clearinghouse (1-800-424-LEAD). Trained specialists at the Clearinghouse can help applicants identify specific types of lead awareness materials that already exist and thereby avoid spending resources to recreate these materials. Grant funding may be used to duplicate or implement established materials and activities. Any new materials developed by the applicant must be consistent with the Federal (EPA, Department of Housing and Urban Development (HUD), and Centers for Disease Control (CDC)) lead hazard awareness and poisoning prevention program.

VI. Ineligible Costs

Examples of ineligible costs under this grant, include the following:

1. Buying real property, such as land or buildings.

2. Lead hazard reduction activities, such as performing interim controls or abatement of homes or apartments.

3. Construction activities, such as renovation, remodeling, or building a structure.

4. Buying office equipment that costs more than $5,000, such as a copying machine or a color printer.

5. Buying testing or analysis equipment that costs more than $5,000, such as a portable XRF or a high-speed computer.

6. Hiring consultants for more $10,000 each, such as a public relations or management improvement firm.

7. Paying for case-management costs for tribal children with elevated blood-lead levels (i.e., follow-up visits by a doctor or chelation therapy).

VII. EPA Quality Assurance Requirements

EPA has quality assurance requirements that must be addressed for the blood-lead screening grant.These requirements are addressed in a Quality Assurance Project Plan (QAPjP) which the grantee must submit to EPA after the grant is awarded. The QAPjP must be approved by EPA before any new data are generated.Once approved, the grantee must follow the plan. A QAPjP is not required for the lead awareness (educational)outreach grants.

Quality assurance project plan requirements are stated in the document “EPA Requirements for Quality Assurance Plans” (EPA QA/R5). Guidance for the development of QAPjPs can be found in the EPA document “Guidance for Quality Assurance Project Plans” (EPA QA/G5). Copies of the quality assurance documents discussed in this unit and other related documents may be down loaded from the EPA Quality Assurance Division web site at http://es.epa.gov/ncerqa/qa/index.html.

To simplify the approval process, a QAPjP template has been developed by EPA specifically for Indian Tribes wishing to respond to this notice. Applicants insert information in the template where indicated by italized print. Applicants may obtain a copy of this specially designed template for this project entitled, “QAPjP Template for Blood-Lead Screening for Indian Tribes,” from the person listed under “FOR FURTHER INFORMATION CONTACT,” or may download it from the EPA OPPT web site at http://www.epa.gov/lead. The template follows the EPA QAPP requirements as stated in the document “EPA Requirements for Quality Assurance Plans” (EPA QA/R5).

VIII. Allocation of Funds

The Agency will have discretion in the distribution of the funds. Grants of up to $30,000 will be issued for applicants interested in submitting proposals for blood-lead screening activities. Applicants may receive grants for up to $50,000 for lead educational outreach activities. Grants may be issued for amounts greater than the amounts specified in cases where a large tribal population is being served or represented by a Tribal consortium. Applicants are encouraged to apply for both screening and outreach grants. Distribution of the funds will be dependent upon the number of qualified applicants, tribal population, and other factors, as appropriate. EPA anticipates awarding about 25-50 grants in response to this notice.

IX. Pre-Application Requirements, Procedures, and Schedule

Applicants must submit a proposal for the pre-application procedure. The pre-application, as described in this unit, consists of two parts:

1. A work plan.

2. A budget.

The Agency will use the applicant's work plan and budget to select projects to be funded under this grant program. After EPA conducts a review of all submitted pre-applications, successful applicants will be contacted and requested to submit other documents(such as the “Application for Federal Assistance” form, a “Budget Information: Non-Construction Programs” form, and other required forms to complete the application process. However, for the purposes of the pre-application process, applicants must only submit a work plan and a budget as described in this unit. Applicants will be required to submit a QAPjP for blood-lead screening grants after the awards have been granted. For Tribal consortiums, applicants must submit letters of interest and support from each Tribal Chair that is being represented in the pre-application.

Applicants must submit one original and three copies of the pre-application (double-sided copies). Pre-applications must be reproducible (for example, stapled in the upper left-hand corner, on white paper, and with page numbers). The deadline for EPA's receipt applications is May 23, 2000 in the Federal Register.

The pre-application consists of the following two parts.

1. Work plan. The work plan must describe the proposed project. The work plan must be no more than 10-typed pages in length (excluding resumes). One page is one side of a single-spaced typed page. The pages must be letter size (10 or 12 characters per inch (cpi)) and must have margins that are at least 1 inch. The only appendices that EPA will accept are resumes of key personnel and copies of outreach materials (if appropriate to the application.) The format for the work plan must be organized as outlined in this unit:

A. Title, Table of Contents, and Summary

B. Blood-Lead Collection Approach or Lead Awareness (Education) Outreach Approach

C. Project Management

D. Schedule

Appendix

I. Resumes of Key Personnel (also include title, description, and reference name with phone number for work on previous or current grants or contracts with the Federal Government within the last 5 years. The appendix must be no more than 10 pages total and follows the same paging and spacing description as provided in this unit.)

II. Lead Awareness (Educational) Outreach Material (if applying for the lead awareness/educational outreach grant)

2. Budget. The budget should include the following categories of costs:

A. Personnel

B. Fringe benefits

C. Travel

D. Equipment

E. Supplies

F. Contractual

G. Other

H. Total direct charges (sum of personnel, fringe benefits, travel, equipment, supplies, contractual,and other)

I. Indirect charges and total (sum of total direct charges and indirect charges.)

X. Evaluation Criteria

EPA will review all applications. Applicants who submit proposals for both blood-lead screening and awareness (educational) outreach must submit two separate pre-application packages, since screening and outreach submissions will be evaluated separately. Applications will be reviewed for quality, strength, and completeness against the following criteria. The maximum rating score of an application is 100 points.

A. Blood-Lead Screening Proposal

1. General (20 points). The applicant's description of implementing a blood-lead screening program for tribal children must address the goals of this notice of funding availability (NOFA) as detailed in Unit II. It must include reasonable and attainable goals and an approach that is clearly detailed. The applicant must describe how the effectiveness of the project will be determined.

The applicant's response to sections A-D of the Work Plan will be used to rate this factor.

2. Blood-lead collection activity (50 points). The applicant's description of plans to develop a blood-lead screening program for tribal children will be evaluated. The following elements will be specifically evaluated:

i. Description of the blood-lead screening program, including sampling, collection, handling, and analysis.

ii. How data will be collected and tracked, including quality control.

iii. Description of the facility/facilities where the blood-lead sampling will occur (i.e., public school,public library, health department facility, clinic, private building, mobile van, etc.).

iv. Provide a percentage estimate of the number of tribal children to be screened in the project. Description of the method that will be used to solicit maximum participation of children in the Indian Tribe.

v. What methods, (i.e., printing, video taping, collaboration with radio or television, etc.) will be used to reach the Indian population regarding the blood-lead screening effort?

vi. How summary data will be reported and disseminated to EPA.

vii. What efforts will be sued to ensure patient confidentiality?

The applicant's response to section B of the Work Plan will be used to rate this factor.

3. Project management (20 points). The applicant should describe positions of staff, roles and responsibilities, and their qualifications. The proposal will also be evaluated using the following questions:

i. Are resumes of key personnel included?

ii. Does the proposal demonstrate the applicant's experience in conducting activities, such as those described in Unit II.?

iii. Does the applicant have previous experience managing similar projects? Are references available?

iv. Does the applicant have access to properly trained staff and facilities to conduct the project?

The applicant's response to section C and the Appendix of the Work Plan will be used to rate this factor.

4. Budget and schedule (10 points). The evaluation will be based on the extent to which the budget and schedule is reasonable, clear, and consistent with the intended use of the funds. Project are expected to completed within 1 year.

The applicant's response to sections D of the Work Plan and the Budget will be used to rate this factor.

B. Lead Awareness (Educational) Outreach Proposal

1. General (20 points). The applicant's description of implementing an educational outreach program must address the goals of this NOFA as described in Unit II. It must include reasonable and attainable goals and an approach that is clearly detailed. The applicant must describe how effectiveness of the project will be determined.

The applicant's response to section A-D of the Work Plan will be used to rate this factor.

2. Outreach (50 points). The applicant should fully describe the proposed educational outreach efforts for Tribal Indian communities. The messages proposed by the applicant should be consistent with EPA/HUD/CDC lead-based paint program policies, guidelines, regulations, and recommendations. The following elements will be specifically evaluated:

i. What types of existing lead educational material will be used (i.e., reports, pamphlets, brochures,video tapes, etc.)? What types, if any, lead awareness (educational) outreach materials will be developed?

ii. How will the lead educational material be distributed throughout the Indian Tribe? Does the applicant indicate how the messages will be delivered, e.g., lecture, written material distribution,one-on-one interviews?

iii. What, if any, printing, special video taping, collaboration with radio or television, or other methods to reach the Tribal Indian population will be used regarding the outreach effort?

iv. Provide a percentage estimate of the number of Tribal families who will receive the lead awareness information. What efforts will be employed to target hard-to-reach tribal communities to inform families about childhood lead poisoning and screening, if applicable. Does the proposal indicate the number of people/families/medical personnel/etc., who will be reached? Does the proposal demonstrate that the proposed outreach materials and activities are suitable for the target audience(i.e., appropriate language comprehension and cultural identification)?

The applicant's response to section B of the Work Plan will be used to rate this factor.

3. Project management (20 points). The applicant should describe positions of staff, roles and responsibilities, and their qualifications. The proposal will also be evaluated using the following questions:

i. Are resumes of key personnel included?

ii. Does the proposal demonstrate the applicant's experience in conducting activities, such as those described in this notice?

iii. Does the applicant have previous experience managing similar projects? Are references available?

iv. Does the applicant have access to properly trained staff and facilities to conduct the project?

v. Estimate the percentage of all Tribal members and families who will be reached with the lead awareness (educational) outreach activities.

The applicant's response to section C of the Work Plan will be used to rate this factor.

4. Budget and schedule (10 points). The evaluation will be based on the extent to which the budget and schedule is reasonable, clear, and consistent with the intended use of the funds. Project periods are not expected to exceed 1 year due to the limited activity involved in the project.

The applicant's response to sections D of the Work Plan will be used to rate this factor.

EPA may require the applicant to modify the proposed work plan based upon the final funding level of the grants.

XI. Submission to Congress and the Comptroller General

Under the Agency's current interpretation of the definition of a “rule,” grant solicitations such as this which are competitively awarded on the basis of selection criteria, are considered rules for the purpose of the Congressional Review Act (CRA). The CRA, 5 U.S.C. 801 et seq., as added by the Small Business Regulatory Enforcement Fairness Act of 1996 (SBREFA), generally provides that before a rule may take effect, the agency promulgating the rule must submit a rule report, which includes a copy of the rule, to each House of the Congress and to the Comptroller General of the United States. EPA will submit a report containing this rule and other required information to the U.S. Senate, the U.S. House of Representatives, and the Comptroller General of the United States prior to publication of the rule in the Federal Register. This rule is not a “major rule” as defined by 5 U.S.C. 804(2).

List of Subjects

Environmental protection, Grants—Indians, Indians, Lead, Maternal and child health.

Dated: February 8, 2000.
William H. Sanders III,
Director, Office of Pollution Prevention and Toxics.

[FR Doc. 00-4244 Filed 2-22-00; 8:45 am]

BILLING CODE 6560-50-F